DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before March 14, 2002.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW, Washington, DC or at http://dms.dot.gov.

This notice of receipt of applications for modification of exemptions is published in accordance with part 107 of the Federal hazardous materials transportation law (49 U.S.C. 5117(b); 49 CFR 1.53(b)).

Issued in Washington, DC, on February 21, 2002.
R. Ryan Posten,
Exemptions Program Officer, Office of Hazardous Materials, Exemptions and Approvals.

Application number | Docket number | Applicant | Modification of exemption
4354-M |  | PPG Industries, Inc., Pittsburgh, PA (See Footnote 1) | 4354
8554-M |  | TRADESTAR Corporation, West Jordan, UT (See Footnote 2) | 8554
8723-M |  | TRADESTAR Corporation, West Jordan, UT (See Footnote 3) | 8723
10677-M |  | Primus AB, Solna, SW (See Footnote 4) | 10677
11373-M |  | Chemical Resources, Inc., Louisville, KY (See Footnote 5) | 11737
11379-M |  | TRW Automotive, Occupant Safety System, Washington, MI (See Footnote 6) | 11379
11827-M |  | NRS America Inc., White Plains, NY (See Footnote 7) | 11827
12068-M | RSPA-98-3850 | Sea Launch Company, L.L.C., Long Beach, CA (See Footnote 8) | 12068
12443-M | RSPA-00-7209 | Dow Reichhold Specialty Latex, LLC, Chickamauga, GA (See Footnote 9) | 12443
12885-M | RSPA-01-11209 | U.S. Department of Agriculture, Forest Service, Missoula, MT (See Footnote 10) | 12885
12892-M |  | Bulk Truck & Transport Service, Inc. Hanover, IN (See Footnote 11) | 12892

(1) To modify the exemption to authorize an additional loading method for the transportation of a Division 6.1 material in UN standard 1H1 drums and 6HA1 composite packagings.

(2) To modify the exemption to authorize a new cargo tank design for the transportation of Division 1.5 and 5.1 materials in bulk.

(3) To modify the exemption to authorize a new cargo tank design for the transportation of Division 1.5 and 5.1 materials in bulk.

(4) To modify the exemption to authorize the transportation of additional Division 2.1 materials and an increase in maximum charging pressure.

(5) To modify the exemption to authorize for-hire contract carriers the ability to transport Division 4.2 materials on the same vehicle with Class 8 materials.

(6) To modify the exemption to authorize extension of the 10-hour lot duration for the non-DOT specification pressure vessels used as components of automobile vehicle safety systems.

(7) To modify the exemption to authorize the transportation of an additional Division 5.1 material in certain lined DOT Specification IM 101 portable tanks and UN standards UN 31A Intermediate Bulk Containers.

(8) To modify the exemption to authorize the transportation of additional Class 3 and Division 2.2 materials contained in the Sea Launch Integrated Launch Vehicle with and without payload.

(9) To modify the exemption to eliminate the need for a bi-directional derail device on tracks used for unloading certain hazardous materials.

(10) To modify the exemption to authorize eliminating the requirement that the pump in the helitorch frame be an explosion proof diaphragm fuel transfer pump when transporting a Class 3 material.

(11) To modify the exemption to reissue the exemption originally issued on an emergency basis for continued use of MC 331 cargo tanks that do not meet the minimum rear bumper requirements specified in the HMR transporting Division 2.1 materials.

[FR Doc. 02-4625 Filed 2-26-02; 8:45 am]

BILLING CODE 4910-60-M